DEPARTMENT OF ENERGY

National Nuclear Security Administration Advisory Committee

AGENCY: National Nuclear Security Administration, Department of Energy.

ACTION: Notice of Closed Meeting.

SUMMARY: This notice announces a meeting of the National Nuclear Security Administration Advisory Committee (NNSA AC). The Federal Advisory Committee Act, 5 U.S.C. App. 2 § 10(a)(2) requires that public notice of these meetings be announced in the Federal Register.

DATES: Tuesday, June 26, 2001, 8 a.m. to 5 p.m. and Wednesday, June 27, 2001, 8 a.m. to 5 p.m.

ADDRESSES: National Nuclear Security Administration, Department of Energy, Forrestal Building, 1000 Independence Avenue, SW, Washington, DC 20585.

FOR FURTHER INFORMATION CONTACT: Jennifer Leonard (202-586-5555), Staff Director of NNSA AC.

SUPPLEMENTARY INFORMATION: Purpose of the Committee: To provide the Administrator of the National Nuclear Security Administration with advice and recommendations on matters of technology, policy, and operations that lie within the mission and responsibilities of the National Nuclear Security Administration, as set forth in 50 U.S.C. 20402(b).

Purpose of the Meeting: To discuss national security research, development, and policy programs.

Closed Meeting: In the interest of national security, the meeting will be closed to the public, pursuant to the Federal Advisory Committee Act, 5 U.S.C. App 2 § 10 (d), and the Federal Advisory Committee Management Regulation, 41 CFR § 101-6.1023, “Procedures for Closing an Advisory Committee Meeting”, which incorporate by reference the Government in the Sunshine Act, 5 U.S.C. § 552b, which, at §§ 552b (c)(1) and (c)(3) permits closure of meetings where restricted data or other classified matters are discussed.

Minutes: Minutes of the meeting will be recorded and classified accordingly.

Issued at Washington, DC on June 9, 2001.
Rachel M. Samuel,
Deputy Advisory Committee Management Officer.

[FR Doc. 01-14897 Filed 6-11-01; 8:45 am]

BILLING CODE 6450-01-P